DEPARTMENT OF ENERGY

Federal Energy Regulatory Commission

[Project No. 14514-001]

Community of Elfin Cove, dba Elfin Cove Utility Commission; Notice of Intent To File License Application, Filing of Pre-Application Document, and Approving Use of the Traditional Licensing Process

a. Type of Filing: Notice of Intent to File License Application and Request to Use the Traditional Licensing Process.

b. Project No.: 14514-001.

c. Date Filed: February 2, 2015.

d. Submitted By: Community of Elfin Cove, dba Elfin Cove Utility Commission.

e. Name of Project: Crooked Creek and Jim's Lake Hydroelectric Project.

f. Location: On Crooked Creek and Jim's Lake, approximately 70 miles west of Juneau, Alaska. The project occupies 60 acres of land within the Tongass National Forest, administered by the United States Forest Service.

g. Filed Pursuant to: 18 CFR 5.3 of the Commission's regulations.

h. Potential Applicant Contact: Joel Groves, PE, Polarconsult Alaska, Inc., 1503 West 33rd Avenue, Suite 310, Anchorage, Alaska 99503; (907) 258-2420 x204.

i. FERC Contact: Sean O'Neill at (202) 502-6462; or email at sean.oneill@ferc.gov.

j. Elfin Cove Utility Commission filed its request to use the Traditional Licensing Process on February 2, 2015. Elfin Cove Utility Commission provided public notice of its request on February 3, 2015. In a letter dated March 11, 2015, the Director of the Division of Hydropower Licensing approved Elfin Cove Utility Commission's request to use the Traditional Licensing Process.

k. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Alaska State Historic Preservation Officer, as required by section 106, National Historic Preservation Act, and the implementing regulations of the Advisory Council on Historic Preservation at 36 CFR 800.2.

l. Elfin Cove Utility Commission filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

n. Register online at http://www.ferc.gov/docs-filing/esubscription.asp to be notified via email of new filing and issuances related to this or other pending projects. For assistance, contact FERC Online Support.

Dated: March 11, 2015.
Kimberly D. Bose,
Secretary.

[FR Doc. 2015-06080 Filed 3-16-15; 8:45 am]

BILLING CODE 6717-01-P